DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from February 2 to February 6, 2009.

For further information, please contact Edson Beall via: United States Postal Service mail, at the National Register of Historic Places, 2280, National Park Service, 1849 C St., NW., Washington, DC 20240; in person (by appointment), 1201 Eye St. NW., 8th floor, Washington DC 20005; by fax, 202-371-2229; by phone, 202-354-2255; or by e-mail, Edson_Beall@nps.gov.

Dated: March 17, 2009.
J. Paul Loether,
Chief, National Register of Historic Places/National Historic Landmarks Program.

Key: State, County, Property Name, Address/Boundary, City, Vicinity, Reference Number, Action, Date, Multiple Name

ARKANSAS

Faulkner County

Mt. Zion Missionary Baptist Church, 249 AR 107, Enola, 09000003, Listed, 2/05/09 (Mixed Masonry Buildings of Silas Owens, Sr. MPS)

ARIZONA

Maricopa County

Valley Field Riding and Polo Club, 2530 N. 64th St., Scottsdale, 08001405, Listed, 2/05/09

CALIFORNIA

Orange County

Dewella Apartments, 234-236 E. Wilshire Ave., Fullerton, 08001406, Listed, 2/02/09

San Francisco County

Uptown Tenderloin Historic District, All or part of 33 blocks roughly bounded by Market, McAllister, Golden Gate, Larkin, Geary, Taylor, Ellis Sts., San Francisco, 08001407, Listed, 2/05/09

GUAM

Guam County

Umang Dam, S. side of Finile Rd., Agat, 08001408, Listed, 2/06/09

KENTUCKY

Fulton County

Whitesell, Jesse, Farm (Boundary Increase), KY 116, W of Purchase Parkway, Fulton vicinity, 06001200, Listed, 2/04/09

Larue County

Buffalo School, 50 School Loop, Buffalo, 09000005, Listed, 2/05/09

MAINE

York County

District No. 5 School, 781 Gore Rd., Alfred, 09000015, Listed, 2/04/09

MISSOURI

Christian County

Ozark Courthouse Square Historic District, Portions of 2nd. Ave., Church, Elm, and 2nd Sts. on the Courthouse Square, Ozark, 08001409, Listed, 2/05/09

St. Louis Independent City

Wellston J.C. Penney Building, 5930 Dr. Martin Luther King Dr., St. Louis, 08001410, Listed, 2/05/09

NEW HAMPSHIRE

Hillsborough County

Union Chapel, 220 Sawmill Rd., Hillsborough, 08001411, Listed, 2/03/09

NORTH CAROLINA

Gaston County

McAdenville Historic District, 100-413 Main St., Elm and Poplar Sts., and cross sts. from I-85 to S. Fork of Catawba River, McAdenville, 08001412, Listed, 2/05/09

Madison County

Hot Springs Historic District, Roughly bounded by Bridge St., Andrews Ave. S. and Meadow Ln., Hot Springs, 08001413, Listed, 2/05/09

New Hanover County

Westbrook-Ardmore Historic District, Bounded by Dock St., Wrightsville Ave., Queen and Lingo Sts., and by S. 14th St., Wilmington, 08001414, Listed, 2/05/09

Wake County

Mary Elizabeth Hospital, 1100 Wake Forest Rd., Raleigh, 08001415, Listed, 2/05/09

TENNESSEE

Obion County

Whitesell, Jesse Farm (Boundary Increase), KY 116 W of Purchase Pkwy., Fulton vicinity, 06001199, Listed, 2/04/09

UTAH

Summit County

Boyden Block, 2 S. Main St., Coalville, 09000019, Listed, 2/06/09

[FR Doc. E9-6181 Filed 3-20-09; 8:45 am]

BILLING CODE